DEPARTMENT OF DEFENSE

Department of the Army; Army Corps of Engineers

Notice of Intent To Prepare an Environmental Impact Statement/Environmental Impact Report for Natomas Levee Improvement Program Phase 4a Landside Improvements Project, Sacramento, CA

AGENCY: Department of the Army, U.S. Army Corps of Engineers; DoD.

ACTION: Notice of intent.

SUMMARY: The action being taken is preparation of an environmental impact statement/environmental impact report (EIS/EIR) for the Natomas Levee Improvement Program (NLIP) Phase 4a Landside Improvements Project (Phase 4a Project). The Corps is considering a request to issue both 408 permission to the Central Valley Flood Protection Board and 404 permit to Sacramento Area Flood Control Agency (SAFCA) for work on the NLIP. Under 33 U.S.C. 408, the Chief of Engineers may grant permission to alter an existing Federal project if it is not injurious to the public interest and does not impair the usefulness of the project. Under Section 404 of the Clean Water Act, the District Engineer permits the discharge of dredged or fill material into waters of the United States if the discharge meets the requirements of the Environmental Protection Agency's 404(b)(1) guidelines and is not contrary to the public interest. The NLIP is located in Sacramento and Sutter Counties, CA. The 408 permission is required for structural improvements to the Sacramento River east levee and the Natomas Cross Canal south levee. A 404 permit is needed for dredge and discharge of fill materials into waters of the United States resulting from levee improvements, relocation of the Riverside Canal, and development of associated habitat.

DATES: A public scoping meeting will be held on April 13, 2009 from 4:30 p.m. until 6:30 p.m. at South Natomas Community Center, Activity Room (see ADDRESSES). Send written comments by April 27, 2009 to (see ADDRESSES).

ADDRESSES: Public Scoping Meeting, South Natomas Community Center, Activity Room, 2921 Truxel Road, Sacramento, CA. Send written comments and suggestions concerning this study to Ms. Elizabeth Holland, U.S. Army Corps of Engineers, Sacramento District, Attn: Planning Division (CESPK-PD-R), 1325 J Street, Sacramento, CA 95814-2922. Requests to be placed on the mailing list should also be sent to this address.

FOR FURTHER INFORMATION CONTACT: Questions about the proposed action and EIS/EIR should be addressed to Ms. Elizabeth Holland at (916) 557-6763, e-mail Elizabeth.g.holland@usace.army.mil or by mail (see ADDRESSES).

SUPPLEMENTARY INFORMATION: 1. Proposed Action. The U.S. Army Corps of Engineers is preparing an EIS/EIR to analyze the impacts of the work proposed by SAFCA to implement the NLIP Phase 4a Project. The overall purpose of the NLIP is to bring the entire 42-mile Natomas Basin perimeter levee system into compliance with applicable Federal and state standards for levees protecting urban areas. The NLIP Phase 4a Project is a component of the NLIP proposed by SAFCA to improve a portion of the Natomas Basin's perimeter levee system in Sacramento and Sutter Counties, CA.

2. Alternatives. The EIS/EIR will address an array of flood damage reduction alternatives. Alternatives analyzed during the investigation will consist of a combination of one or more flood risk reduction measures. These measures include strengthening the existing levee in place, constructing seepage berms, constructing adjacent setback levees, installing relief wells and cutoff walls, and relocating irrigation ditches.

3. Scoping Process. a. A public scoping meeting will be held on April 13, 2009 to present information to the public and to receive comments from the public. This meeting will begin a process to involve concerned individuals, and local, State, and Federal agencies with the Phase 4a Project.

b. Significant issues to be analyzed in depth in the EIS/EIR include effects on agricultural resources, land use, geology and soils, hydrology and hydraulics, water quality, biological resources (including fisheries, vegetation and wildlife resources, special-status species, and wetlands and other waters of the U.S.), cultural resources, paleontological resources, transportation and circulation, air quality, noise, visual resources, utilities and service systems, hazards and hazardous materials, socioeconomics and population and housing, and environmental justice. The EIS/EIR will also evaluate the cumulative effects of the proposed NLIP (including the past and anticipated future NLIP project phases) and other related projects in the study area.

c. The Corps is consulting with the State Historic Preservation Officer to comply with the National Historic Preservation Act, the U.S. Fish and Wildlife Service and the National Marine Fisheries Service to provide a Biological Opinion, and the U.S. Fish and Wildlife Service to provide a Fish and Wildlife Coordination Act Report.

d. A 45-day public review period will be provided for individuals and agencies to review and comment on the draft EIS/EIR. All interested parties are encouraged to respond to this notice and provide a current address if they wish to be notified of the draft EIS/EIR circulation.

4. Availability. The draft EIS/EIR is scheduled to be available for public review and comment in early summer 2009.

Dated: March 16, 2009.
Thomas Chapman,
COL, EN, Commanding.

[FR Doc. E9-6862 Filed 3-26-09; 8:45 am]

BILLING CODE 3720-58-P